DEPARTMENT OF DEFENSE

Office of the Secretary

[Docket ID DoD-2014-OS-0160]

Privacy Act of 1974; System of Records

AGENCY: Office of the Secretary of Defense, DoD.

ACTION: Notice to add a new System of Records.

SUMMARY: The Office of the Secretary of Defense proposes to add a new system of records, DAU 08, entitled “Defense Acquisition University Student Information System (SIS)” to manage administrative and academic functions related to student registration, and courses attempted and completed. Records are used to verify attendance and grades, and are also used as a management tool for statistical analysis, tracking, and reporting.

DATES: Comments will be accepted on or before January 29, 2015. This proposed action will be effective the day following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on December 16, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 19, 2014.
Aaron Siegel,
Alternate OSD Federal Register Liaison Officer, Department of Defense.

DAU 08

System Name

Defense Acquisition University Student Information System (SIS).

System Location

Defense Acquisition University (DAU), 9820 Belvoir Road, Fort Belvoir, VA 22060-5565.

Categories of Individuals Covered by the System

All current and former students of the DAU including contractors and foreign nationals.

Categories of Records in the System

Name; DAU ID Number; date of birth; citizenship; home address; personal home telephone number, personal cell telephone number; personal email address; education information (college transcripts); employment information (job series; rank; pay grade; service; user type (i.e., DoD, military, civilian), business address, business telephone number, business email address, supervisor's name; supervisor's telephone number; supervisor's email address); emergency contact; Temporary Duty (TDY) address; TDY telephone number; registration information (i.e., registered, waitlisted, graduated); course information (i.e., course name, class or section number, dates); instructor information; DAU grades; and special accommodation (yes/no only).

Authority for Maintenance of the System

10 U.S.C. 133, Under Secretary of Defense for Acquisition, Technology, and Logistics; and DoD Directive 5000.57, Defense Acquisition University.

Purpose(s)

To manage administrative and academic functions related to student registration, and courses attempted and completed. Records are used to verify attendance and grades, and are also used as a management tool for statistical analysis, tracking, and reporting.

Routine Uses of Records Maintained in the System, Including Categories of Users and the Purposes of Such Uses

In addition to those disclosures generally permitted under 5 U.S.C. 552a(b) of the Privacy Act of 1974, as amended, the records contained herein may specifically be disclosed outside the DoD as a routine use pursuant to 5 U.S.C. 552a(b)(3) as follows:

1. Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

2. Congressional Inquiries Disclosure Routine Use: Disclosure from a system of records maintained by a DoD Component may be made to a congressional office from the record of an individual in response to an inquiry from the congressional office made at the request of that individual.

3. Disclosures Required by International Agreements Routine Use: A record from a system of records maintained by a DoD Component may be disclosed to foreign law enforcement, security, investigatory, or administrative authorities to comply with requirements imposed by, or to claim rights conferred in, international agreements and arrangements including those regulating the stationing and status in foreign countries of DoD military and civilian personnel.

4. Disclosure to the Department of Justice for Litigation Routine Use: A record from a system of records maintained by a DoD Component may be disclosed as a routine use to any component of the Department of Justice for the purpose of representing the Department of Defense, or any officer, employee or member of the Department in pending or potential litigation to which the record is pertinent.

5. Disclosure of Information to the National Archives and Records Administration Routine Use: A record from a system of records maintained by a DoD Component may be disclosed as a routine use to the National Archives and Records Administration for the purpose of records management inspections conducted under authority of 44 U.S.C. 2904 and 2906.

6. Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

Policies and Practices for Storing, Retrieving, Accessing, Retaining, and Disposing of Records in the System

Storage

Electronic storage media.

Retrievability

Individual's name, DAU ID number, date of birth, course name, and class or section number.

Safeguards

Physical controls include: Security guards, identification badges, and key cards. Building is located on a federal installation with around-the-clock gate guards and is locked during non-business hours. Only individuals with the need to know and role-based access are authorized access to records. Personally Identifiable Information (PII) fields are not exposed to users who have not been properly cleared and trained. Reports containing PII may only be created by those authorized. Any reports generated with PII are appropriately marked per regulations. System is contained in a DAU enclave with boundary defense mechanisms in place.

Technical controls include: User identification, passwords, intrusion detection system (IDS), data is encrypted at rest and in transit, firewalls, virtual private network (VPN), access to records requires the use of DoD Public Key Infrastructure Certificates or Common Access Card (CAC) and Personnel Identification Number (PIN).

Administrative controls include: Periodic security audits, regular monitoring of users' security practices, methods to ensure only authorized personnel access to PII, encryption of backups containing sensitive data.

Retention and Disposal

Records are destroyed when 50 years old.

System Managers and Address

Center Director, Defense Acquisition University, Scheduling and Student Support, Performance and Resource Management, 9820 Belvoir Road, Fort Belvoir, VA 22060-5565.

Notification Procedure

Individuals seeking to determine whether information about themselves is contained in this system should address written inquiries to the Center Director, Defense Acquisition University, Performance and Resource Management, 9820 Belvoir Road, Fort Belvoir, VA 22060-5565.

Signed, written requests should contain full name, DAU ID number, date of birth, current address, and telephone number.

Record Access Procedures

Individuals seeking access to information about themselves contained in this system, should address written inquiries to the Office of the Secretary of Defense/Joint Staff Freedom of Information Act Requester Service Center, 1155 Defense Pentagon, Washington, DC 20301-1155.

Signed, written requests must contain full name, DAU ID number, date of birth, current address, telephone number, and the name and number of this system of records notice.

Contesting Record Procedures

The OSD rules for accessing records, for contesting contents, and appealing initial agency determinations are published in OSD Administrative Instruction 81; 32 CFR part 311; or may be obtained from the system manager.

Record Source Categories

The individual, the DAU Data Center, Career Acquisition Personnel & Position Management Information System (CAPPMIS) (Army system), Defense Civilian Personnel Data System (DCPDS), Acquisition Career Management System (ACMS) (Air Force system), Management Information System (MIS II) (Navy acquisition career management system), and Defense Manpower Data Center (DMDC).

Exemptions Claimed for the System

None.

[FR Doc. 2014-30223 Filed 12-29-14; 8:45 am]

BILLING CODE 5001-06-P